DEPARTMENT OF TRANSPORTATION

Federal Aviation Administration

14 CFR Part 39

[Docket No. 2001-SW-60-AD; Amendment 39-12774; AD 2002-12-02]

RIN 2120-AA64

Airworthiness Directives; Eurocopter France Model AS332L2 Helicopters

AGENCY: Federal Aviation Administration, DOT.

ACTION: Final rule; request for comments.

SUMMARY: This amendment adopts a new airworthiness directive (AD) for Eurocopter France (ECF) Model AS332L2 helicopters. This action requires visually inspecting the engine compartment fire extinguisher bottle (bottle) for correct placement and installation of the percussion heads and attachment cartridges and if, incorrectly installed, making the necessary corrections. This action also requires marking the bottle's indicating label with “Amendment A” after making the necessary corrections. This amendment is prompted by the discovery that some of the spare bottles have interchanged percussion heads. The actions specified in this AD are intended to prevent release of the fire-extinguishing agent into the wrong engine compartment, failure to extinguish a fire, and subsequent loss of control of the helicopter.

DATES: Effective June 27, 2002.

The incorporation by reference of certain publications listed in the regulations is approved by the Director of the Federal Register as of June 27, 2002.

Comments for inclusion in the Rules Docket must be received on or before August 12, 2002.

ADDRESSES: Submit comments in triplicate to the Federal Aviation Administration (FAA), Office of the Regional Counsel, Southwest Region, Attention: Rules Docket No. 2001-SW-60AD, 2601 Meacham Blvd., Room 663, Fort Worth, Texas 76137. You may also send comments electronically to the Rules Docket at the following address: 9-asw-adcomments@faa.gov.

The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Ed Cuevas, Aviation Safety Engineer, FAA, Rotorcraft Directorate, Regulations Group, Fort Worth, Texas 76193-0111, telephone (817) 222-5355 fax (817) 222-5961.

SUPPLEMENTARY INFORMATION: The Direction Generale De L'Aviation Civile (DGAC), the airworthiness authority for France, notified the FAA that an unsafe condition may exist on ECF Model AS332L2 helicopters. The DGAC advises that some bottles were delivered as spares with interchanged percussion heads.

ECF has issued Alert Telex No. 26.00.12, dated October 3, 2001 (Telex), which specifies checking the bottle's percussion heads and attachment cartridges to determine if they are interchanged. The Telex states that if a bottle is equipped with interchanged percussion heads and has been connected in compliance with the Aircraft Maintenance Manual task 26.21.00.051, in the event of a fire in one engine compartment, the pilot will not be able to extinguish the fire. The Telex specifies procedures for modifying a bottle if an anomaly is found. The DGAC classified this Telex as mandatory and issued AD No. T2001-471-020(A), dated October 5, 2001, to ensure the continued airworthiness of these helicopters in France.

This helicopter model is manufactured in France and is type certificated for operation in the United States under the provisions of 14 CFR 21.29 and the applicable bilateral agreement. Pursuant to the applicable bilateral agreement, the DGAC has kept the FAA informed of the situation described above. The FAA has examined the findings of the DGAC, reviewed all available information, and determined that AD action is necessary for products of this type design that are certificated for operation in the United States.

This unsafe condition is likely to exist or develop on other helicopters of the same type design. Therefore, this AD is being issued to prevent the release of the fire-extinguishing agent into the wrong engine compartment, failure to extinguish a fire, and subsequent loss of control of the helicopter. This AD requires the following:

• Before further flight, visually inspect each bottle for correct placement and installation of the percussion heads and attachment cartridges.

• Before installing, visually inspect each spare bottle for correct positioning of the percussion heads and, if necessary, correct the position of the percussion heads.

• Record “Amendment A” on bottles that are correctly installed and on the Equipment Log Card of the bottle.

The actions must be accomplished in accordance with the Telex described previously.

None of the helicopters affected by this action are on the U.S. Register. Non-U.S. operators under foreign registry currently operate all helicopters included in the applicability of this rule; therefore, they are not directly affected by this AD action. However, the FAA considers that this rule is necessary to ensure that the unsafe condition is addressed in the event that any of these subject helicopters are imported and placed on the U.S. Register in the future.

Should an affected helicopter be imported and placed on the U.S. Register in the future, it would require approximately 1 work hour to inspect both bottles and 5 work hours to reconfigure each bottle, at an average labor rate of $60 per work hour. Based on these figures, the cost impact of this AD would be $360 per helicopter.

Since this AD action does not affect any helicopter that is currently on the U.S. register, it has no adverse economic impact and imposes no additional burden on any person. Therefore, notice and public procedures hereon are unnecessary and the amendment may be made effective in less than 30 days after publication in the Federal Register.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-60-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that notice and prior public comment are unnecessary in promulgating this regulation; therefore, it can be issued immediately to correct an unsafe condition in aircraft since none of these model helicopters are registered in the United States. The FAA has also determined that this regulation is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-12-02 Eurocopter France: Amendment 39-12774. Docket No. 2001-SW-60-AD.

Applicability: Model AS332L2 helicopters, with engine fire extinguishing bottle (bottle), part number (P/N) 862690-00, installed, certificated in any category.

Note 1: Bottles with “Amendment A” noted on the bottle's indicating label (label) are not subject to the applicability of this AD.

Note 2: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Before further flight, unless accomplished previously.

To prevent release of the fire-extinguishing agent into the wrong engine compartment, failure to extinguish a fire, and subsequent loss of control of the helicopter, accomplish the following:

(a) Visually inspect each bottle for correct connection to the bottle percussion heads and attachment cartridges in accordance with the Accomplishment Instructions, paragraphs 2.B.1. through 2.B.2.2., of Eurocopter France Alert Telex No. 26.00.12, dated October 3, 2001 (Telex).

(1) If the percussion heads and attachment cartridges are connected to the bottle correctly, record “Amendment A” on the bottle's label and on the Equipment Log Card (FME) of the bottle, close the sliding cowling, and remove the access equipment.

(2) If the percussion heads and the attachment cartridges are not connected to the bottle correctly, reconfigure each bottle in accordance with the Accomplishment Instructions, paragraphs 2.B.4. through 2.B.4.4., of the Telex.

(b) Before installing, inspect any spare bottle to ensure that the yellow percussion head is located below the pressure gage and that the gray percussion head is located opposite the pressure gage.

(1) If the percussion heads are properly located, record “Amendment A” on the bottle's label and on the FME of the bottle.

(2) If the percussion heads are not located properly, loosen the union nuts; appropriately interchange the percussion heads, tighten the union nuts by hand, and record “Amendment A” on the label and on the FME of the bottle.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(d) Special flight permits may be issued in accordance with 14 CFR 21.197 and 21.199 to operate the helicopter to a location where the requirements of this AD can be accomplished.

(e) The inspections and modifications shall be done in accordance with the Accomplishment Instructions, paragraphs 2.B.1. through 2.B.2.2., and paragraphs 2.B.4 through 2.B.4.4., of Eurocopter France Alert Telex No. 26.00.12, dated October 3, 2001. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(f) This amendment becomes effective on June 27, 2002.

Note 4: The subject of this AD is addressed in Direction Generale De L'Aviation Civile (France) AD T2001-471-020(A), dated October 5, 2001.

Issued in Fort Worth, Texas, on May 31, 2002.
David A. Downey,
Manager, Rotorcraft Directorate, Aircraft Certification Service.

[FR Doc. 02-14568 Filed 6-11-02; 8:45 am]

BILLING CODE 4910-13-P